DEPARTMENT OF STATE

[Public Notice 4635]

Culturally Significant Objects Imported for Exhibition Determinations: “Byzantium: Faith and Power (1261-1557)”

AGENCY: Department of State.

ACTION: Notice; correction.

SUMMARY: On December 12, 2003, notice was published as page 69429 of the Federal Register (volume 68, number 239) by the Department of State pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875]. The referenced Notice is corrected to include an additional object in the exhibition “Byzantium: Faith and Power (1261-1557),” imported from abroad for temporary exhibition within the United States, which I determine is of cultural significance. The additional object is imported pursuant to loan agreement with the foreign owner. I also determine that the exhibition or display of the exhibit objects at the Metropolitan Museum of Art, New York, NY, from on or about March 15, 2004, to on or about July 4, 2004, and at possible additional venues yet to be determined, is in the national interest. Public notice of these Determinations is ordered to be published in the Federal Register.

FOR FURTHER INFORMATION CONTACT: For further information, including a list of the additional exhibit object, contact Julianne Simpson, Attorney-Adviser, Office of the Legal Adviser, Department of State, (telephone: 202/619-6529). The address is Department of State, SA-44, 301 4th Street, SW., Room 700, Washington, DC 20547-0001.

Dated: February 26, 2004.
C. Miller Crouch,
Principal Deputy Assistant Secretary for Educational and Cultural Affairs, Department of State.

[FR Doc. 04-4748 Filed 3-2-04; 8:45 am]

BILLING CODE 4710-08-P